DEPARTMENT OF EDUCATION

National Assessment of Educational Progress (NAEP) in Reading

AGENCY: U.S. Department of Education, National Assessment Governing Board.

ACTION: Notice of opportunity for public comment for evaluating and finalizing achievement levels definitions for the National Assessment of Educational Progress (NAEP) in Reading.

SUMMARY: The National Assessment Governing Board is soliciting public comment and recommendations for improvements to the achievement levels definitions for the National Assessment of Educational Progress (NAEP) in reading. These achievement levels definitions describe the reading skills and abilities that students should demonstrate at each achievement level.

Public and private parties and organizations are invited to provide written comments and recommendations. Voluntary participation by all interested parties is urged. This notice sets forth the review schedule, identifies the kind of information that the Governing Board is required to verify regarding achievement levels, and provides information for accessing additional materials that will be useful for this review. This document is intended to notify members of the general public of their opportunity to provide comment.

Background

Under Public Law 107-279, the National Assessment Governing Board (NAGB) is authorized to formulate policy guidelines for NAEP. The legislation specifies that the Governing Board is to develop appropriate student achievement levels for each subject and grade tested, as provided in section 303(e). Such levels are determined by identifying the knowledge that can be measured and verified objectively using widely accepted professional assessment standards; and developing achievement levels that are consistent with relevant widely accepted professional assessment standards and based on the appropriate level of subject matter knowledge for grade levels to be assessed, or the age of the students, as the case may be.

In preparation for reporting the results of the new assessment of reading at grades 4, 8, and 12, the Governing Board convened panels of reading content experts to participate in a study for producing draft achievement levels descriptions. The Governing Board seeks comment on the draft achievement levels descriptions and recommendations for improvements. All responses will be taken into consideration before finalizing the definitions for Board adoption. Once adopted, these descriptions will be used in reporting performance on NAEP relative to the achievement levels in 2009 and for all subsequent assessments until a new framework is developed for the reading NAEP.

Review Materials for Comment and Review

Materials for this review are located at http://www.nagb.org/newsroom/release/release-012710.htm.

(1) Policy Definitions: The Governing Board adopted policy definitions of student performance that identify in very general terms what is meant by Basic, Proficient, and Advanced achievement levels. These policy definitions apply for any subject and grade assessed in NAEP, and they are used for developing the achievement levels descriptions to be used in reporting NAEP results in a specific subject and grade—such as for the 2009 reading NAEP at grades 4, 8, and 12. The policy definitions are posted on the web site for this review.

(2) Draft Achievement Level Descriptions for Reading: The draft achievement levels descriptions for reading at the Basic, Proficient, and Advanced levels for grades 4, 8, and 12. The achievement levels descriptions (ALDs) were written to describe how students should be able to perform on the reading NAEP assessment in order to demonstrate achievement that the Governing Board has defined as Basic, Proficient, and Advanced for NAEP.

(3) Reading Framework: In addition to the policy definitions of Basic, Proficient, and Advanced achievement, the achievement levels descriptions must represent the framework used for developing the reading NAEP. Please see chapter 2 of the Reading Framework for the 2009 National Assessment of Educational Progress for more information about the NAEP reading assessment and details regarding the cognitive targets assessed.

(4) Focus Questions: Finally, some of the aspects of the achievement levels descriptions that the Governing Board must address are included. All comments will be appreciated, and your comments on and recommendations regarding these aspects will be especially appreciated.

The Board is seeking comment from policymakers, teachers, researchers, state and local reading specialists, members of professional reading and teacher organizations, and members of the public.

It is anticipated that the finalized achievement levels descriptions will be presented for approval at the Governing Board meeting on March 4-6, 2010.

Timelines

Comments must be received by February 10, 2010 and sent to:

National Assessment Governing Board, 800 North Capitol Street, NW., Suite 825, Washington, DC 20002, Attention: Susan Loomis: Public Comment, FAX: (202) 357-6945, E-mail: Susan.Loomis@ed.gov.

FOR FURTHER INFORMATION CONTACT: Susan Loomis, National Assessment Governing Board, 800 North Capitol Street, NW., Suite 825, Washington, DC 20002-4233, Telephone: (202) 357-6940.

SUPPLEMENTARY INFORMATION:

Specific questions that the Board seeks responses to include the following:

1. How well do the reading achievement levels descriptions (ALDs) for each grade and level represent the policy definitions overall? You may want to address each grade level separately.

2. Does the progression within each grade from Basic to Proficient to Advanced in the reading skills that students should demonstrate seem reasonable?

3. Does the progression across the three grade levels of reading skills required for performance within each achievement level (Basic/Proficient/Advanced) seem reasonable?

4. Is the relative emphasis of the cognitive targets in the achievement levels descriptions appropriate for each achievement level and grade?

5. Finally, are the achievement definitions useful, i.e., do they convey an understanding of what students should be able to do in reading at the different grade levels?

Your comments and recommendations for improving the achievement levels descriptions will be appreciated.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 2, 2010.
Mary Crovo,
Deputy Executive Director, National Assessment Governing Board, U.S. Department of Education.

[FR Doc. 2010-2550 Filed 2-4-10; 8:45 am]

BILLING CODE 4000-01-P